DEPARTMENT OF AGRICULTURE

Farm Service Agency

President's Commission on Improving Economic Opportunity in Communities Dependent on Tobacco Production While Protecting Public Health

AGENCY: Farm Service Agency, USDA.

ACTION: Notice of meeting.

SUMMARY: Executive Order No. 13168 published September 22, 2000, established the President's Commission on Improving Economic Opportunity in Communities Dependent on Tobacco Production While Protecting Public Health (Commission). This notice announces that the Commission will conduct a public meeting on March 20, 2001. The purpose of the meeting will be to review comments received on the Commission's Preliminary Report since its February 21, 2001, meeting and to finalize recommendations from tobacco, economic development, and health working groups in preparation for work on the Commission's Final Report.

DATES: The Commission will meet on March 20, 2001, from 1 p.m. to 6 p.m. at 2101 L Street, NW., Room 303A, Washington, DC. If special accommodations are required, please contact Doug Richardson, at the address specified below, by COB March 16, 2001. All times are Eastern Standard Time. All meetings are open to the public; however, seating is limited and available on a first-come basis.

FOR FURTHER INFORMATION CONTACT: Doug Richardson, Executive Director, Tobacco Commission, United States Department of Agriculture, (USDA), 1400 Independence Avenue, SW., STOP 0574, Washington, DC, 20250-0574 or telephone (202) 418-4266 or toll free (866) 804-6698; FAX (202) 418-4270; Internet: tobcom@wdc.usda.gov.

SUPPLEMENTARY INFORMATION: The purpose of the Commission is to advise the President on changes occurring in the tobacco farming economy and recommend such measures as may be necessary to improve economic opportunity and development in communities that are dependent on tobacco production, while protecting consumers, particularly children, from hazards associated with smoking. The Commission collected and reviewed information about changes in the tobacco farming economy and Federal, State, and local initiatives intended to help tobacco growers, tobacco quota holders, and communities dependent on tobacco production pursue new economic opportunities. The Commission issued its Preliminary Report on January 26, 2001, with comments requested through March 8, 2001. Copies of the Preliminary Report are available on the Commission's website at http://www.fsa.usda.gov/tobcom/ or by contacting the Commission's office at the contact information listed above. All comments received through February 20, 2001, with respect to the Preliminary Report were reviewed by the Commission in its public meeting conducted on February 21, 2001.

The Commission, in its February 21, 2001, meeting, also reviewed draft recommendations from three working groups representing the farm, economic development and health areas of the Commission. After this review, the Commission directed that each working group revise their recommendations based on input received from the meeting and other recommendations to the Commission.

The purpose of the March 20, 2001, meeting is to review additional public input received on the Preliminary Report and to review the revised reports from the tobacco, economic development and health working groups in order to prepare the Final Report to the President.

Written comments may be sent to the contact person listed above.

Signed at Washington, D.C. on March 5, 2001.
James R. Little,
Acting Administrator, Farm Service Agency.

[FR Doc. 01-5775 Filed 3-5-01; 4:24 pm]

BILLING CODE 3410-05-P